DEPARTMENT OF THE INTERIOR

Bureau of Land Management

[CO-930-1430-ET; COC-28263]

Public Land Order No. 7496; Revocation of Three Secretarial Orders; Colorado

AGENCY: Bureau of Land Management, Interior.

ACTION: Public Land Order.

SUMMARY: This order revokes three Secretarial Orders which withdrew National Forest System lands for the Bureau of Reclamation South Platte Reclamation Project. The lands are no longer needed for reclamation purposes and this order will open 9,943 acres to Forest Service management and to mining. All of the lands have been and will remain open to mineral leasing.

EFFECTIVE DATE: October 15, 2001.

FOR FURTHER INFORMATION CONTACT: Doris E. Chelius, BLM Colorado State Office, 2850 Youngfield Street, Lakewood, Colorado 80215-7093, 303-239-3706.

SUPPLEMENTARY INFORMATION: By virtue of the authority vested in the Secretary of the Interior by section 204 of the Federal Land Policy and Management Act of 1976, 43 U.S.C. (1994), it is ordered as follows:

1. The three Secretarial Orders dated May 13, 1943, which withdrew National Forest System lands for the Bureau of Reclamation South Platte Reclamation Project, are hereby revoked in their entireties as to certain lands in the following Townships:

Sixth Principal Meridian

Pike National Forest

Tps. 7 and 8 S., R. 69 W., Tps. 7, 8, and 9 S., R. 70 W., and T. 6 S., R. 77 W.

The areas identified aggregate approximately 9,943 acres of National Forest System lands in Douglas, Jefferson, and Summit Counties. More specific legal descriptions showing sections and subdivisions may be obtained by contacting Doris Chelius at the address or phone number listed above. The documents may also be examined by the public during regular working hours at the Bureau of Land Management Colorado State Office.

2. At 9 a.m. on October 15, 2001, these lands shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (1994) shall vest no rights against the United States. Acts required to establish a location and to initiate a right of possession are governed by State law where not in conflict with Federal law. The Bureau of Land Management will not intervene in disputes between rival locators over possessory rights since Congress has provided for such determination in local courts.

Dated: August 15, 2001.
J. Steven Griles,
Deputy Secretary.

[FR Doc. 01-22944 Filed 9-12-01; 8:45 am]

BILLING CODE 4310-JB-P